COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds services to the Procurement List that will be provided by nonprofit agencies employing persons who are blind or have other severe disabilities and deletes products and services from the Procurement List previously furnished by such agencies.

DATES: Effective Date: 8/30/2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 6/4/2010 (75 FR 31768-31769), the Committee for Purchase From People Who Are Blind or Severely Disabled published a notice of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Service, FAA ARTCC Complex, 37075 Aviation Lane, Hilliard, FL.

NPA: The Right 2 Work Corporation, Jacksonville, FL.

Contracting Activity: Dept. Of Transportation, Federal Aviation Administration, College Park, GA.

Service Type/Location: Recycling Service, Kennedy Space Center, NASA Mail Code: OP-ES, Kennedy Space Center, FL.

NPA: Bridges BTC, Inc., Rockledge, FL.

Contracting Activity: National Aeronautics and Space Administration, Kennedy Space Center, Kennedy Space Center, FL.

Service Type/Location: Custodial Service, Social Security Administration Woodlawn Child Care Center, 6401 Security Blvd., Baltimore, MD.

NPA: Goodwill Industries of the Chesapeake, Inc., Baltimore, MD.

Contracting Activity: Social Security Administration, Hdqtrs—Office of Acquisition & Grants, Baltimore, MD.

Deletions

On 5/21/2010 (75 FR 28589-28590); 6/4/2010 (75 FR 31768-31769); and 6/11/2010 (75 FR 33270-33271), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Urinal, Incontinent

NSN: 6530-01-451-7652

NSN: 6530-01-451-7653

NSN: 6530-01-451-7654

NSN: 6530-01-451-7655

NSN: 6530-01-451-7656

NSN: 6530-01-451-7657

NSN: 6530-01-451-7658

NSN: 6530-01-451-7659

NPA: Lighthouse for the Blind, St. Louis, MO.

Contracting Activity: Department of Veterans Affairs, NAC, Hines, IL.

Services

Service Type/Location: Grounds Maintenance, National Advocacy Center, 1620 Pendleton Street, Columbia, SC.

NPA: The Genesis Center, Sumter, SC.

Contracting Activity: Dept Of Justice, Federal Prison System, Terminal Island, FCI, Terminal Island, CA.

Service Type/Location: Janitorial/Custodial Service, Caribou-Targhee Forest Supervisor Office, St. Anthony, ID.

NPA: Development Workshop, Inc., Idaho Falls, ID.

Contracting Activity: Department of Agriculture, Procurement Operations Division,Washington, DC.

Barry S. Lineback,
Director, Business Operations.

[FR Doc. 2010-18771 Filed 7-29-10; 8:45 am]

BILLING CODE 6353-01-P